DEPARTMENT OF ENERGY

Federal Energy Regulatory Commission

Combined Notice of Filings

Take notice that the Commission has received the following Natural Gas Pipeline Rate and Refund Report filings:

Filings Instituting Proceedings

Docket Numbers: RP13-1347-000.

Applicants: Enable Mississippi River Transmission, L.

Description: ACA Compliance Filing to be effective 10/1/2013.

Filed Date: 9/25/13.

Accession Number: 20130925-5055.

Comments Due: 5 p.m. e.t. 10/7/13.

Docket Numbers: RP13-1348-000.

Applicants: National Fuel Gas Supply Corporation.

Description: Appalachian Pooling Filing (GT&C Sec 13.1) to be effective 11/1/2013.

Filed Date: 9/26/13.

Accession Number: 20130926-5092.

Comments Due: 5 p.m. e.t. 10/8/13.

Docket Numbers: RP13-1349-000.

Applicants: Natural Gas Pipeline Company of America.

Description: EDF Negotiated Rate to be effective 10/1/2013.

Filed Date: 9/26/13.

Accession Number: 20130926-5093.

Comments Due: 5 p.m. e.t. 10/8/13.

Docket Numbers: RP13-1350-000.

Applicants: Maritimes & Northeast Pipeline, L.L.C.

Description: MNUS FRQ 2013 to be effective 11/1/2013.

Filed Date: 9/26/13.

Accession Number: 20130926-5104.

Comments Due: 5 p.m. e.t. 10/8/13.

Docket Numbers: RP13-1351-000.

Applicants: Texas Eastern Transmission, LP.

Description: ConocoPhillips 10-1-2013 releases to be effective 10/1/2013.

Filed Date: 9/27/13.

Accession Number: 20130927-5030.

Comments Due: 5 p.m. e.t. 10/9/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP11-2061-006.

Applicants: Northern Natural Gas Company.

Description: 20130926 Reservation Charge Credits Compliance to be effective 12/20/2012.

Filed Date: 9/26/13.

Accession Number: 20130926-5031.

Comments Due: 5 p.m. e.t. 10/8/13.

Docket Numbers: RP13-1312-000.

Applicants: Millennium Pipeline Company, LLC.

Description: Withdrawal Request of Negotiate Rate SVC Agreement—Contract No. 142902.

Filed Date: 9/26/13.

Accession Number: 20130926-5105.

Comments Due: 5 p.m. e.t. 10/8/13.

Docket Numbers: RP12-245-003.

Applicants: TransColorado Gas Transmission Company L.

Description: Second Compliance Filing—Reservation Charge Credits to be effective 6/16/2012.

Filed Date: 9/27/13.

Accession Number: 20130927-5002.

Comments Due: 5 p.m. e.t. 10/9/13.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 27, 2013.
Nathaniel J. Davis, Sr.,
Deputy Secretary.

[FR Doc. 2013-24376 Filed 10-4-13; 8:45 am]

BILLING CODE 6717-01-P